DEPARTMENT OF AGRICULTURE

Economic Research Service

Notice of Intent To Request New Information Collection

AGENCY: Economic Research Service, USDA.

ACTION: Notice and request for comments.

SUMMARY: In accordance with the Paperwork Reduction Act of 1995, this notice invites the general public and other public agencies to send comments regarding any aspect of this proposed information collection. This is a new collection to develop a Sampling Frame of Farm to School efforts.

DATES: Written comments on this notice must be received on or before December 17, 2010 to be assured of consideration.

ADDRESSES: Address all comments concerning this notice to Katherine Ralston, Food Economics Division, Economic Research Service, U.S. Department of Agriculture, 1800 M St., NW., Room N2163, Washington, DC 20036-5801. Comments may also be submitted via fax to the attention of Katherine Ralston at 202-694-5663 or via e-mail to kralston@ers.usda.gov. Comments will also be accepted through the Federal eRulemaking Portal. Go to http://www.regulations.gov, and follow the online instructions for submitting comments electronically.

All written comments will be open for public inspection at the office of the Economic Research Service during regular business hours (8:30 a.m. to 5 p.m., Monday through Friday) at 1800 M St., NW., Room N2163, Washington, DC 20036-5801.

All responses to this notice will be summarized and included in the request for Office of Management and Budget approval. All comments will be a matter of public record. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

FOR FURTHER INFORMATION CONTACT: For further information contact Katherine Ralston at the address in the preamble. Tel. 202-694-5463.

SUPPLEMENTARY INFORMATION: Title: Census Survey of Farm to School Initiatives.

OMB Number: 0536-XXXX.

Expiration Date: Three years from the date of approval.

Type of Request: New collection.

Abstract

The Food, Conservation, and Energy Act of 2008, also known as the 2008 Farm Bill, amended the National School Lunch Act to allow institutions receiving funds through that act and the Child Nutrition Act of 1966 to apply a geographic preference to the procurement of unprocessed locally grown or locally raised agricultural products. This amendment provides local institutions more flexibility and increases opportunities for USDA to promote local foods in the school meal programs. While this part of the 2008 Farm Bill has yet to be funded, USDA has taken action to explore the issue through the Farm to School Initiative. USDA recognizes the growing interest among school districts and communities to incorporate regionally and locally produced farm foods into school nutrition programs supported by USDA. USDA school nutrition programs include the National School Lunch Program (NSLP), the School Breakfast Program (SBP), the Special Milk Program (SMP), which funds milk for students without access to other meal programs, and the Fresh Fruit and Vegetable Program (FFVP), which funds the purchase of fresh fruits and vegetables provided as free snacks to students in selected schools with the States' highest percentages of students certified for free and reduced price meals.

USDA is supporting Farm to School efforts through a number of initiatives, and continues to look for ways to help facilitate this important connection. In late 2009, USDA established “Know Your Farmer, Know Your Food,” an initiative which focuses on the importance of understanding where our food comes from and how it gets to our plates. In response to the growing demand for Farm to School activities, the “USDA Farm to School Team” was developed out of the “Know Your Farmer, Know Your Food” Initiative.

Successful Farm to School efforts have the potential to benefit multiple stakeholders, including the schools, the farmers, and the children. Through these efforts, schools are able to bring fresh, locally grown foods to school meal programs, while local farmers are able to attract new business by selling fruits and vegetables to schools in their area. In addition, activities surrounding Farm to School often help children learn essential lessons about how farm fresh produce is grown and its role in a nutritious, healthful diet. Introducing local farm products in both the classroom and the cafeteria allows children to experience the value and appeal of a diet rich in fresh fruits and vegetables. Many Farm to School activities include bringing students to farms and farmers into classrooms, as well as creating school gardens that both teach students about agriculture and support the meal program.

While anecdotal evidence and case studies suggest that Farm to School activities improve students' nutrition and local economies, more representative objective research to measure these benefits and identify factors associated with success and cost-effectiveness are hampered by the lack of data. Surveys of school food authorities (SFAs) have included questions to indicate whether the SFA purchases locally, but the surveys have not included questions about the nature of the activities, and the samples of SFAs have not been large enough to yield a sufficient sample of SFAs implementing Farm to School activities for statistical analysis.

The information to be collected by the Farm to School Census Survey is necessary to develop a stratified sampling frame for more detailed future surveys. Currently, the National Farm to School Network, through the Urban and Environmental Policy Institute at Occidental College, maintains the only national database of Farm to School initiatives. This database is created by information entered by programs directly on to the National Farm to School Network's Web site, and as a result is not a complete representation of Farm to School activity in the country. The Census Survey will contact 50 State agriculture departments, 50 State education departments, 50 State Farm to School coordinators, and 50 State cooperative extension offices to develop a list of school districts involved in Farm to School activities and their contact information. School districts identified on this list will be contacted to the following collect information on key characteristics:

♢ Contact information, including county, school district name and zip code.

♢ School nutrition programs available in the SFA or school (NSLP, SBP, SMP, and/or FFVP).

♢ When the efforts started.

♢ Types of activities:

○ Local foods week or harvest of the month.

○ Use of geographic preference in procurement.

○ Direct local procurement for meals and/or snacks, including snacks supported by the Fresh Fruit and Vegetable Program.

○ Use of commodity dollars for locally sourced items through State Farm to School program.

○ Requests for local sourcing through Department of Defense produce procurement (DoD Fresh).

○ School gardens for snacks, meals or other use.

○ Curriculum and classroom education out of classroom activities, farm tours.

○ Agriscience programs.

♢ Number of schools participating.

♢ Number of children participating, if not all.

♢ Number of farmers/distributors supplying local product.

♢ Most common foods purchased locally.

♢ Requirement of Good Agriculture Practices (GAP) certification.

♢ Level of external grant funding received specific for Farm to School related efforts.

Information on other potential stratification characteristics will be obtained by matching data from the Common Core Data to the database of SFAs implementing Farm to School activities and other geo-coded data.

Data collection instruments will be kept as simple and respondent-friendly as possible. Responses are voluntary and will be made publicly available only with permission of the respondent.

Affected Public: Respondent groups include: (1) State agriculture department officials, (2) State education department officials, (3) State cooperative extension officials, (4) State Farm to School coordinators, and (5) local Farm to School coordinators.

Estimated Number of Respondents: The estimated number of respondents for the sampling frame includes: (1) 50 State agriculture department representatives, (2) 50 State department of education representatives, (3) 50 State cooperative extension representatives, (4) up to 50 State Farm to School coordinators, and (5) up to 1,000 local Farm to School coordinators. Ninety percent of each group is expected to respond. Estimates of the percentages of respondents who will agree to complete the interview are based on previous experience with developing the currently available database of farm to school initiatives.

Estimated Number of Responses per Respondent: 20 for State-level respondents, 10 for local-level respondents. Estimated responses per respondent are as follows: Up to 200 State officials will be asked to identify local school districts which participate in Farm to School activities and provide contact information. An average of 20 school districts per respondent will be identified. An estimated 1,000 school districts will be contacted to obtain information on 10 key characteristics. (Note: identified school districts will overlap, so that redundant phone information serves as validation).

Estimated Total Responses: 14,000.

Estimated Time per Response: We estimate the time per response as 0.05 hours (3 minutes) for State-level respondents to provide contact information for each school district within the state, and 0.25 hours (15 minutes) per question for local-level respondents to provide information on each key characteristic, on average. These estimates of respondent burden are based on experience with previous data collection efforts for Farm to School initiatives.

Estimated Total Burden on Respondents: 2,700 hours. See the table below for the estimated total annual burden for each instrument.

Reporting Burden
Description | Estimated number of respondents | Responses per respondent | Total annual responses | Estimated average number of hours per response | Estimated total annual hours of response burden
Request for programs in the state | 200 | 20 | 4,000 | .05 | 200
Key Characteristics | 1,000 | 10 | 10,000 | .25 | 2,500
Total responding burden | 1,200 |  | 14,000 |  | 2,700

Dated: September 15, 2010.
Katherine R. Smith,
Administrator, Economic Research Service.

[FR Doc. 2010-26083 Filed 10-15-10; 8:45 am]

BILLING CODE 3410-18-P